DEPARTMENT OF DEFENSE

Department of the Army, Corps of Engineers

Withdrawal of Notice of Intent To Prepare Environmental Impact Statement for St. Charles International Airport

AGENCY: Department of the Army, U.S. Army Corps of Engineers, DoD.

ACTION: Withdrawal of Notice.

SUMMARY: The Department of the Army, Army Corps of Engineers today withdraws its Notice of Intent (67 FR 65342, October 24, 2002) to prepare a Draft Environmental Impact Statement (DEIS) for the St. Charles International Airport Project.

The Department has relied upon the National Environmental Policy Act (NEPA) CEQ guidelines, to complete the actions taken in connection with this project.

FOR FURTHER INFORMATION CONTACT: For further information on the St. Charles International Airport Project or for information on the Department of Defense's NEPA process, please contact: Mr. Gib Owen at U.S. Army Corps of Engineers, PM-RS, P.O. Box 60267, New Orleans, LA 70160-0267, phone (504) 862-1337, fax number (504) 862-2572 or by E-mail at gib.a.owen@mvn02.usace.army.mil.

SUPPLEMENTARY INFORMATION: The U.S. Army Corps of Engineers (USACE), New Orleans District (MVN), received an application from St. Charles International Airport, LLC, 3453 Meadow Lane, Houston, TX 77027 to build an international airport facility in St. Charles Parish, in the vicinity of the highway I-10/I-310 interchange near Kenner, LA. The MVN initiated this study under the authority of 33 CFR part 320. This study was to investigate the feasibility of constructing an international airport facility in St. Charles Parish as per the Clean Water Act Section 404 permit application submitted by St. Charles International Airport, LLC.

On October 24, 2002, the Department of the Army, Army Corps of Engineers published in the Federal Register a Notice of Intent to prepare a draft Environmental Impact Statement (EIS) for the St. Charles International Airport Project. A letter was sent to all parties believed to have an interest in the analysis requesting their input on alternatives and issues to be evaluated. The letter also notified interested parties of a public scoping meeting held on February 18, 2003. From 2003 to 2005 the USACE-MVN coordinated with The Federal Aviation Administration (FAA), The U.S. Fish and Wildlife Service (USFWS) and the National Marine Fisheries Service (NMFS). The FAA provided guidance and comments for areas within their expertise. The USFWS assisted in the documentation of existing conditions and the assessment of effects of project alternatives through the Fish and Wildlife Coordination Act consultation procedures. Consultation with the USFWS and the NMFS concerning threatened and endangered species and their critical habitat was ongoing through 2005. NMFS consultation on the effects of the proposed action on Essential Fish Habitat was initiated. After the devastation of Hurricane Katrina the applicant withdrew his Clean Water Act section 404 application. Therefore preparation of an EIS is no longer needed and the Department of the Army, Army Corps of Engineers proposes to withdraw the Notice of Intent to prepare an EIS.

Copies of documents related to the St. Charles International Airport project are on file at, and may be obtained from U.S. Army Corps of Engineers, PM-RS, P.O. Box 60267, New Orleans, LA 70160-0267.

Dated: March 17, 2009.
Alvin B. Lee,
Colonel, U.S. Army, District Commander.

[FR Doc. E9-10316 Filed 5-4-09; 8:45 am]

BILLING CODE 3710-58-P